OFFICE OF THE UNITED STATES TRADE REPRESENTATIVE

Trade Policy Staff Committee; Initiation of Environmental Review of Dominican Republic Free Trade Negotiations; Public Comments on Scope of Environmental Review

AGENCY: Office of the United States Trade Representative.

ACTION: Notice and request for comments.

SUMMARY: This publication gives notice that, pursuant to the Trade Act of 2002, and consistent with Executive order 13141 (64 FR 63169) (Nov. 18, 1999) and its implementing guidelines (65 FR 79442), the Office of the United States Trade Representative (USTR), through the Trade Policy Staff Committee (TPSC), is initiating an environmental review of the proposed United States-Dominican Republic Free Trade Agreement (FTA). The TPSC is requesting written comments from the public on what should be included in the scope of the environmental review, including the potential environmental effects that might flow from the free trade agreement and the potential implications for our environmental laws and regulations. The TPSC also welcomes public views on appropriate methodologies and sources of data for conducting the review. Persons submitting written comments should provide as much detail as possible on the degree to which the subject matter they propose for inclusion in the review may raise significant environmental issues in the context of the negotiation.

DATES: Public comments should be received no later than January 30, 2004.

ADDRESSES: Submissions by electronic mail: FR0406@ustr.gov.

Submissions by facsimile: Gloria Blue, Executive Secretary, Trade Policy Staff Committee, at (202) 395-6143.

FOR FURTHER INFORMATION CONTACT: For procedural questions concerning public comments, contact Gloria Blue, Executive Secretary, TPSC, Office of the USTR, 1724 F Street, NW., Washington, DC 20508, telephone (202) 395-3475. Questions concerning the environmental review should be addressed to David Brooks, Environment and Natural Resources Section, USTR, telephone (202) 395-7320.

SUPPLEMENTARY INFORMATION:

1. Background Information

On August 4, 2003, in accordance with section 2104(a)(1) of the Trade Act of 2002, the United States Trade Representative, Ambassador Robert B. Zoellick, notified Congress of the President's intent to enter into trade negotiations with the Dominican Republic. Ambassador Zoellick outlined the specific U.S. objectives for the FTA in the notification letters to Congress. The letters to House Speaker Dennis Hastert and Senate President Pro Tempore Ted Stevens can be found on the USTR Web site at www.ustr.gov/new/fta/Dr/2003-08-04-notification-senate.pdf and www.ustr.gov/new/fta/Dr/2003-08-04-notification-house.pdf.

Since 1984, U.S. unilateral trade preferences through the Caribbean Basin Initiative (CBI) have defined the U.S. trade relationship with the Dominican Republic. An FTA with the Dominican Republic will respond to direction from the Congress in the Caribbean Basin Trade Partnership Act to conclude comprehensive, mutually advantageous trade agreements with CBI countries. The Dominican Republic is the largest economy in the Caribbean Basin region and is the largest beneficiary of CBI preferences, accounting for more than one quarter of U.S. imports under the program. An FTA will build on the success of the CBI and expand U.S. access to the Dominican Republic's market, which already receives $4.3 billion in U.S. exports annually and approximately $1.4 billion in U.S. investment. In 2002, U.S. imports from the Dominican Republic totaled $4.2 billion.

Recognizing the benefits of strengthening the ties among the Dominican Republic, Central America, and the United States, we expect to apply essentially the same disciplines with the Dominican Republic as those we are currently negotiating with the five member countries of the Central American Economic Integration System (Costa Rica, El Salvador, Guatemala, Honduras, and Nicaragua, hereinafter “Central America”), and to negotiate specific market access commitments with the Dominican Republic. Therefore, persons wishing to comment on the scope of the environmental review for the proposed FTA with the Dominican Republic are encouraged to make reference to the recently-released interim environmental review of the U.S.-Central America FTA, available at www.ustr.gov/new/fta/Cafta/2003-08-22-cafta-env_review.pdf (see 68 FR 51822) (August 28, 2003).

2. Environmental Review

USTR, through the TPSC, will perform an environmental review of the proposed agreement pursuant to the Trade Act of 2002 and consistent with Executive Order 13141 (64 FR 63,169) and its implementing guidelines (65 FR 79,442). Environmental reviews are used to identify potentially significant, reasonably foreseeable environmental impacts (both positive and negative), and information from the review can help facilitate consideration of appropriate responses where impacts are identified. Reviews address potential environmental impacts of the proposed agreement and potential implications for environmental laws and regulations. The focus of the review is on impacts in the United States, although global and transboundary impacts may be considered, where appropriate and prudent.

The TPSC currently expects that the environmental review of the proposed FTA with the Dominican Republic is likely to reach preliminary conclusions that are similar to those presented in the Interim Environmental Review of the US-CAFTA. In their comments on the scope for the review of the proposed FTA with the Dominican Republic, the public is requested to focus particular attention on environmental concerns other than those already addressed in the CAFTA Interim Review.

Given the current timetable for negotiations and the relevance of information and analysis contained in the CAFTA Interim Review, the TPSC may not prepare an interim environmental review of the proposed FTA with the Dominican Republic. If no interim review is prepared, all public comments submitted in response to this notice will be taken into account in the course of the negotiations and in the Final Review that will be prepared and published at the conclusion of the negotiations.

3. Requirements for Submissions

In order to facilitate prompt processing of submissions, USTR strongly urges and prefers electronic (e-mail) submissions in response to this notice.

Persons making submissions by e-mail should use the following subject line: “United States—Dominican Republic Environmental Review” followed by “Written Comments.” Documents should be submitted as either WordPerfect, MSWord, or text (.txt) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments submitted in response to this request will be placed in a file open to public inspection pursuant to 15 CFR 2003.5, except business confidential information exempt from public inspection in accordance with 15 CFR 2003.6. Business confidential information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file must be scheduled at least 48 hours in advance and may be made by calling (202) 395-6186.

USTR will take into account the public comments on environmental issues submitted in response to a previous notice—dated August 28, 2003 (68 FR 51,823)—requesting comments from the public to assist USTR in formulating positions and proposals with respect to all aspects of the negotiations, including environmental issues. These comments will also be made available for public inspection.

General information concerning the Office of the United States Trade Representative may be obtained by accessing its Internet Web site (www.ustr.gov).

Carmen Suro-Bredie,
Chair, Trade Policy Staff Committee.

[FR Doc. 03-31618 Filed 12-23-03; 8:45 am]

BILLING CODE 3190-W3-P